DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Procedures for Acceptance or Rejection of Rated Orders.

OMB Control Number: 0694-0092.

Form Number(s): None.

Type of Request: Regular submission.

Burden Hours: 21,389.

Number of Respondents: 18,000.

Average Hours per Response: 1 to 15 minutes.

Needs and Uses: Under the Defense Priorities Allocation System regulation, timely delivery goods and services, to meet current national defense, energy, and emergency preparedness program requirements in support of approved national defense programs, is critical. The order information is used by the customer who placed the rated order with a supplier to help track the status from initial receipt by the supplier to its shipment or performance of the needed goods or services. The information will also be used by the Department of Defense and its associated agencies, Department of Energy, and Department of Commerce, as part of the information required to provide assistance to the customer in the event that the supplier cannot or will not make timely delivery or performance of the needed goods or services.

Affected Public: Business and other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285 or via the Internet at David_Rostker@omb.eop.gov.

Dated: March 5, 2008.
Gwellnar Banks,
Management Analyst, Office of the Chief Information Officer.

[FR Doc. E8-4636 Filed 3-7-08; 8:45 am]

BILLING CODE 3510-33-P